ENVIRONMENTAL PROTECTION AGENCY

[FRL-7978-7]

Proposed Amendment to CERCLA Section 122(h) Administrative Agreement for the Lower Passaic River Study Area Portion of the Diamond Alkali Superfund Site, Located in and About Essex, Hudson, Bergen and Passaic Counties, NJ

AGENCY: Environmental Protection Agency (EPA).

ACTION: Notice of settlement and opportunity for public comment.

SUMMARY: In accordance with section 122(i) of the Comprehensive Environmental Response, Compensation, and Liability Act of 1980, as amended (“CERCLA”), 42 U.S.C. 9622(i), notice is hereby given of a proposed amendment to an administrative settlement. The settlement will incorporate twelve (12) parties who will be bound to the terms and conditions of the original settlement (which became effective June 22, 2004), thus becoming jointly and severally liable for funding $10,000,000.00 toward the ongoing Remedial Investigation/Feasibility Study (“RI/FS”) of the Lower Passaic River Study Area, along with the thirty-one (31) original Settling Parties. In exchange, these additional Settling Parties will resolve their potential liability for performance of the RI/FS and for Past and Future Response Costs incurred and to be incurred in connection with the RI/FS. Furthermore, all the Settling Parties have committed to paying EPA up to an additional $750,000.00 in contingent funding toward Future Response Costs in the event that EPA needs additional funds to complete the RI/FS. For thirty (30) days following the date of publication of this notice, the EPA will receive written comments relating to the settlement. The Agency will consider all comments received and may modify or withdraw its consent to the settlement if comments received disclose facts or considerations which indicate that the proposed settlement is inappropriate, improper, or inadequate. The Agency's response to any comments received will be available for public inspection at the EPA, 290 Broadway, New York, New York 10007-1866.

DATES: Comments must be submitted on or before November 7, 2005.

ADDRESSES: The proposed settlement is available on the web at http://www.ourpassaic.org. Comments should reference the Lower Passaic River Study Area/Diamond Alkali Superfund Site, EPA Index No. CERCLA-02-2004-2011, and should be addressed to the individual identified below.

FOR FURTHER INFORMATION CONTACT: Kedari Reddy, Assistant Regional Counsel, New Jersey Superfund Branch, Office of Regional Counsel, U.S. Environmental Protection Agency, 17th Floor, 290 Broadway, New York, New York 10007. Telephone: (212) 637-3106.

Dated: September 26, 2005.
William McCabe,
Acting Division Director, Emergency & Remedial Response Division.

[FR Doc. 05-20105 Filed 10-5-05; 8:45 am]

BILLING CODE 6560-50-U